DEPARTMENT OF COMMERCE

International Trade Administration

[A-533-840]

Notice of Final Results of Antidumping Duty Changed Circumstances Review: Certain Frozen Warmwater Shrimp From India

AGENCY: Enforcement and Compliance, International Trade Administration, Department of Commerce.

SUMMARY: On October 10, 2014, the Department of Commerce (the Department) initiated a changed circumstances review and published a notice of preliminary results of changed circumstances review of the antidumping duty order on certain frozen warmwater shrimp (shrimp) from India.¹ In that notice, we preliminarily determined that Premier Marine Products Private Limited (PPL) is the successor-in-interest to Premier Marine Products (PMP) for purposes of determining antidumping duty cash deposits and liabilities. No interested party submitted comments on, or requested a public hearing to discuss, the Initiation and Preliminary Results. For these final results, the Department continues to find that PPL is the successor-in-interest to PMP.

¹ See Certain Frozen Warmwater Shrimp from India: Initiation and Preliminary Results of Antidumping Duty Changed Circumstances Review, 79 FR 61290 (October 10, 2014) (Initiation and Preliminary Results).

DATES: Effective Date: December 2, 2014.

FOR FURTHER INFORMATION CONTACT: Blaine Wiltse or Stephen Banea, AD/CVD Operations, Office II, Enforcement and Compliance, International Trade Administration, U.S. Department of Commerce, 14th Street and Constitution Avenue NW., Washington, DC 20230; telephone (202) 482-6345 or (202) 482-0656, respectively.

SUPPLEMENTARY INFORMATION:

Background

On August 22, 2014, PPL requested that the Department conduct an expedited changed circumstances review under 19 CFR 351.221(c)(3)(iii) to confirm that PPL is the successor-in-interest to PMP for purposes of determining antidumping duty cash deposits and liabilities.

On October 10, 2014, the Department initiated this changed circumstances review and published the notice of preliminary results, determining that PPL is the successor-in-interest to PMP. See Initiation and Preliminary Results, 79 FR at 61290. In the Initiation and Preliminary Results, we provided all interested parties with an opportunity to comment or request a public hearing regarding our preliminary finding that PPL is the successor-in-interest to PMP. We received no comments or requests for a public hearing from interested parties within the time period set forth in the Initiation and Preliminary Results.

Scope of the Order

The merchandise subject to the order is certain frozen warmwater shrimp.² The product is currently classified under the following Harmonized Tariff Schedule of the United States (HTSUS) item numbers: 0306.17.0003, 0306.17.0006, 0306.17.0009, 0306.17.0012, 0306.17.0015, 0306.17.0018, 0306.17.0021, 0306.17.0024, 0306.17.0027, 0306.17.0040, 1605.21.1030, and 1605.29.1010. Although the HTSUS numbers are provided for convenience and customs purposes, the written product description remains dispositive.

² For a complete description of the scope of the order, see Initiation and Preliminary Results.

Final Results of Changed Circumstances Review

For the reasons stated in the Initiation and Preliminary Results, and because we received no comments from interested parties to the contrary, the Department continues to find that PPL is the successor-in-interest to PMP. As a result of this determination, we find that PPL should receive the cash deposit rate previously assigned to PMP, as a part of the Liberty Group of companies, in the most recently completed review of the antidumping duty order on shrimp from India.³ Consequently, the Department will instruct U.S. Customs and Border Protection to suspend liquidation of all shipments of subject merchandise produced and/or exported by PPL and entered, or withdrawn from warehouse, for consumption on or after the publication date of this notice in the Federal Register at 2.49 percent, which is the current antidumping duty cash deposit rate for PMP, as a part of the Liberty Group.⁴ This cash deposit requirement shall remain in effect until further notice.

³ See Certain Frozen Warmwater Shrimp From India: Final Results of Antidumping Duty Administrative Review; 2012-2013, 79 FR 51309 (August 28, 2014).

⁴ Id.

We are issuing this determination and publishing these final results and notice in accordance with sections 751(b)(1) and 777(i)(1) and (2) of the Tariff Act of 1930, as amended, and 19 CFR 351.216 and 351.221(c)(3).

Dated: November 21, 2014.
Paul Piquado,
Assistant Secretary for Enforcement and Compliance.

[FR Doc. 2014-28417 Filed 12-1-14; 8:45 am]

BILLING CODE 3510-DS-P